DEPARTMENT OF COMMERCE

National Oceanic and Atmospheric Administration

[RTID 0648-XE298]

Deepwater Horizon Natural Resource Damage Assessment Open Ocean Trustee Implementation Group Draft Restoration Plan 4 and Environmental Assessment: Fish and Water Column Invertebrates and Sea Turtles

AGENCY: National Marine Fisheries Service (NMFS), National Oceanic and Atmospheric Administration (NOAA), Commerce.

ACTION: Notice of availability; request for public comments.

SUMMARY: The Deepwater Horizon (DWH) natural resource Trustees for the Open Ocean Trustee Implementation Group (Open Ocean TIG) have prepared the Draft Restoration Plan 4 and Environmental Assessment: Fish and Water Column Invertebrates (FWCI) and Sea Turtles (RP4/EA). The Draft RP4/EA proposes alternatives to help restore fish and water column invertebrates and sea turtles impacted by the DWH oil spill. The Draft RP4/EA evaluates twelve restoration alternatives under the Oil Pollution Act (OPA), including criteria set forth in the OPA Natural Resource Damage Assessment (NRDA) regulations, and the National Environmental Policy Act (NEPA) and its implementing regulations. A No Action Alternative is also evaluated pursuant to the NEPA. The total estimated cost to implement the Open Ocean TIG's 10 preferred alternatives is approximately $210,020,000. The Open Ocean TIG invites the public to comment on the Draft RP4/EA.

DATES:

Submitting Comments: The Open Ocean TIG will consider public comments on the Draft RP4/EA received on or before December 16, 2024.

Public Webinar: The Open Ocean TIG will host two public webinars to facilitate public review and comment on the Draft RP4/EA. The webinar dates, times, and registration links are as follows:

• Thursday, November 14, 2024 from 1-2 p.m. Eastern Time. Register at: https://attendee.gotowebinar.com/register/7244601192809206361.

• Wednesday, November 20, 2024 from 5-6 p.m. Eastern Time. Register at: https://attendee.gotowebinar.com/register/7473782296991218265.

After registering, participants will receive a confirmation email with instructions for joining the webinar and how to make comments during the webinar. Shortly after the webinar concludes, the presentation material will be posted on the web at https://www.gulfspillrestoration.noaa.gov/restoration-areas/open-ocean.

ADDRESSES:

Obtaining Documents: You may view and download the Draft RP4/EA at https://www.gulfspillrestoration.noaa.gov/restoration-areas/open-ocean. You may also request a flash drive containing the Draft RP4/EA (see FOR FURTHER INFORMATION CONTACT).

Submitting Comments: You may submit comments on the Draft RP4/EA by either of the following methods:

• Website: https://parkplanning.nps.gov/OOTIGRP4. Follow the online instructions for submitting comments.

• Mail: U.S. Fish and Wildlife Service Gulf Restoration Office, 1875 Century Blvd., Atlanta, GA 30345. To be considered, mailed comments must be postmarked on or before the comment deadline given in DATES.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: National Oceanic and Atmospheric Administration—Laurie Rounds, NOAA Restoration Center, (850) 378-1263, openocean.TIG@noaa.gov.

SUPPLEMENTARY INFORMATION:

Introduction

On April 20, 2010, the mobile offshore drilling unit Deepwater Horizon, which was drilling a well for BP Exploration and Production, Inc. (BP), experienced a significant explosion, fire and subsequent sinking in the Gulf of Mexico, resulting in the release of millions of barrels of oil and other discharges into the Gulf. Under the authority of the OPA, designated Federal and state Trustees, acting on behalf of the public, assessed the injuries to natural resources and prepared the Deepwater Horizon Oil Spill Final Programmatic Damage Assessment and Restoration Plan and Final Programmatic Environmental Impact Statement (Final PDARP/PEIS), and the Record of Decision for the Deepwater Horizon Oil Spill Final Programmatic Damage Assessment and Restoration Plan and Final Programmatic Environmental Impact Statement (ROD), which sets forth the governance structure and process for DWH restoration planning under the OPA NRDA regulations. On April 4, 2016, the United States District Court for the Eastern District of Louisiana entered a Consent Decree resolving civil claims by the Trustees against BP.

The Open Ocean TIG, which is composed of the National Oceanic and Atmospheric Administration, Environmental Protection Agency, the U.S. Department of the Interior, the U.S. Environmental Protection Agency, and the U.S. Department of Agriculture, selects and implements restoration projects under the Open Ocean TIG's management authority in accordance with the Consent Decree. The Final PDARP/PEIS, ROD, Consent Decree, and information on the DWH Trustees can be found at https://www.gulfspillrestoration.noaa.gov/restoration-planning/gulf-plan.

Background

On June 1, 2023, the Open Ocean TIG issued a notice of solicitation on the Gulf Spill Restoration website requesting project ideas for FWCI and Sea Turtles Restoration Types as described in the Final PDARP/PEIS. On June 25, 2024, the TIG announced on the Gulf Spill Restoration website that they reviewed project idea submissions and were initiating drafting of the RP4/EA which tiers from the Final PDARP/PEIS and would include a reasonable range of restoration project alternatives for the FWCI and Sea Turtle Restoration Types.

Overview of the Open Ocean TIG Draft RP4/EA

In the Draft RP4/EA, the Open Ocean TIG analyzes a reasonable range of 12 project alternatives and, pursuant to the NEPA, a No Action alternative for each Restoration Type. Two of the alternatives are not preferred by the TIG at this time. Funding to implement any of the alternatives ultimately selected by the Open Ocean TIG would come from the FWCI and Sea Turtles Restoration Types and Monitoring and Adaptive Management allocations. The reasonable range of project alternatives evaluated by the TIG are listed below:

• Return 'Em Right: Species and Area Expansion (Reduction of Postrelease Mortality from Barotrauma in Gulf of Mexico Reef Fish Recreational Fisheries) (preferred);

• Next Generation Fishing (preferred);

• Communication Networks and Mapping Tools to Reduce Fish Mortality (preferred);

• Reduction of Diverse Threats to Fish and Water Column Invertebrates (preferred);

• Education and Stewardship Partnerships with Charter Anglers (preferred);

• Communication, Adaptive Management, Planning, and Integration (preferred);

• Reduction in Fish Post-Release Mortality from Depredation (non-preferred);

• Sea Turtle Nesting Habitat Protection Expansion in Florida (Long Term Nesting Habitat Protection for Sea Turtles) (preferred);

• Gulf-Wide Sea Turtle Bycatch Reduction (preferred);

• Gulf-Wide Sea Turtle Vessel Strike Reduction (preferred);

• Gulf-Wide Sea Turtle Stranding Network and Emergency Response Enhancements (preferred); and

• Kemp's Ridley Nesting Enhancement in Mexico (non-preferred).

The total estimated cost to implement the ten preferred alternatives is approximately $210,020,000.

Next Steps

After the public comment period ends, the Open Ocean TIG will consider and address all substantive comments received before making a final decision on which, if any, alternatives to fund and implement. A Final RP4/EA and Finding of No Significant Impact, as appropriate, identifying the selected alternatives will be made publicly available.

Administrative Record

The Administrative Record for the Draft RP4/EA can be viewed electronically at https://www.doi.gov/deepwaterhorizon/adminrecord under the folder 6.5.2.2.4.

Authority

The authority for this action is the OPA of 1990 (33 U.S.C. 2701 et seq.), its implementing NRDA regulations found at 15 CFR part 990, and the NEPA of 1969 (42 U.S.C. 4321 et seq.), its implementing regulations found at 40 CFR parts 1500-1508.

Dated: October 25, 2024.
Carrie Diane Robinson,
Director, Office of Habitat Conservation, National Marine Fisheries Service.

[FR Doc. 2024-25180 Filed 10-29-24; 8:45 am]

BILLING CODE 3510-12-P